OFFICE OF PERSONNEL MANAGEMENT

Excepted Service

AGENCY: Office of Personnel Management (OPM).

ACTION: Notice.

SUMMARY: This notice identifies Schedule A, B, and C appointing authorities applicable to a single agency that were established or revoked from June 1, 2020 to June 30, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during June 2020.

Schedule B

No Schedule B Authorities to report during June 2020.

Schedule C

The following Schedule C appointing authorities were approved during June 2020.

Agency name | Organization name | Position title | Authorization No. | Effective date
DEPARTMENT OF AGRICULTURE | Rural Housing Service | State Director—Mississippi | DA200085 | 06/09/2020
| Office of Communications | Deputy Director of Communications | DA200087 | 06/17/2020
|  | Press Secretary | DA200082 | 06/23/2020
| Office of the Assistant Secretary for Congressional Relations | Director of Intergovernmental Affairs | DA200080 | 06/24/2020
|  | Senior Policy Advisor | DA200097 | 06/26/2020
| Office of the Secretary | Legislative Correspondent | DA200095 | 06/26/2020
| Office of the Under Secretary for Research, Education, and Economics | Chief of Staff | DA200091 | 06/17/2020
| Office of the Under Secretary for Trade and Foreign Agricultural Affairs | Chief of Staff | DA200066 | 06/26/2020
| Rural Development | Confidential Assistant | DA200074 | 06/10/2020
DEPARTMENT OF COMMERCE | Bureau of the Census | Senior Advisor | DC200146 | 06/24/2020
| National Telecommunications and Information Administration | Senior Advisor | DC200127 | 06/04/2020
| Office of Federal Coordinator—Meteorology | Confidential Assistant | DC200139 | 06/30/2020
| Office of Public Affairs | Deputy Director of Public Affairs | DC200131 | 06/30/2020
| Office of White House Liaison | Confidential Assistant | DC200140 | 06/18/2020
DEPARTMENT OF DEFENSE | Office of the Secretary of Defense | Speechwriter | DD200189 | 06/05/2020
DEPARTMENT OF THE AIR FORCE | Office of the Assistant Secretary of the Air Force—Installations, Environment, and Energy | Special Assistant | DF180033 | 06/26/2020
DEPARTMENT OF EDUCATION | Office of Communications and Outreach | Confidential Assistant | DB200060 | 06/02/2020
| Office of Postsecondary Education | Confidential Assistant | DB200064 | 06/26/2020
| Office of the General Counsel | Confidential Assistant (2) | DB200058 DB200059 | 06/11/2020 06/11/2020
DEPARTMENT OF ENERGY | National Nuclear Security Administration | Senior Advisor Program Analyst | DE200082 DE200091 | 06/16/2020 06/16/2020
| Office of General Counsel | Senior Advisor | DE200099 | 06/30/2020
| Office of Management | Operations Assistant | DE200114 | 06/10/2020
|  | Senior Advisor | DE200155 | 06/11/2020
| Office of Strategic Planning and Policy | Policy Coordinator | DE200127 | 06/26/2020
| Office of the Secretary of Energy Advisory Board | Senior Advisor | DE200087 | 06/16/2020
ENVIRONMENTAL PROTECTION AGENCY | Office of the Administrator | Senior Advisor for Strategic Initiatives | EP200073 | 06/18/2020
EQUAL EMPLOYMENT OPPORTUNITY COMMISSION | Office of the Chair | Policy Analyst | EE200004 | 06/18/2020
EXPORT-IMPORT BANK | Office of Communications | Vice President of Communications | EB200014 | 06/01/2020
GENERAL SERVICES ADMINISTRATION | Office of the Administrator | Confidential Assistant | GS200037 | 06/30/2020
DEPARTMENT OF HEALTH AND HUMAN SERVICES | Centers for Disease Control and Prevention | Senior Advisor Senior Advisor for Communications | DH200118 DH200119 | 06/02/2020 06/02/2020
| Office of Communications | Senior Speechwriter | DH200083 | 06/26/2020
| Office of Refugee Resettlement/Office of the Director | Senior Advisor | DH200124 | 06/18/2020
| Office of the Assistant Secretary for Financial Resources | Senior Advisor | DH200130 | 06/19/2020
| Office of the Assistant Secretary for Public Affairs | Special Assistant | DH200122 | 06/11/2020
| Office of the Secretary | Deputy Scheduler | DH200121 | 06/09/2020
|  | Special Assistant | DH200137 | 06/26/2020
DEPARTMENT OF HOMELAND SECURITY | Cybersecurity and Infrastructure Security Agency | Special Assistant | DM200300 | 06/26/2020
| Office of Countering Weapons of Mass Destruction | Senior Advisor | DM200292 | 06/16/2020
| Office of the Assistant Secretary for Policy | Confidential Assistant Special Assistant | DM200281 DM200289 | 06/16/2020 06/16/2020
| Office of the Assistant Secretary for Public Affairs | Special Assistant Speechwriter | DM200255 DM200257 | 06/01/2020 06/02/2020
| Office of the Chief Information Officer | Special Assistant | DM200301 | 06/26/2020
| Office of the Chief of Staff | Senior Advisor | DM200288 | 06/11/2020
| United States Customs and Border Protection | Policy Management and Program Analyst | DM200286 | 06/11/2020
|  | Chief of Staff, Office of Policy and Planning | DM200285 | 06/23/2020
|  | Deputy Press Secretary | DM200282 | 06/24/2020
DEPARTMENT OF HOUSING AND URBAN DEVELOPMENT | Office of the Administration | Senior Advisor | DU200079 | 06/15/2020
| Office of Public Affairs | Special Assistant | DU200106 | 06/22/2020
| Office of the Secretary | Special Assistant | DU200115 | 06/22/2020
DEPARTMENT OF JUSTICE | Community Oriented Policing Services | Senior Advisor | DJ200122 | 06/02/2020
| Criminal Division | Chief of Staff and Counselor | DJ200118 | 06/15/2020
DEPARTMENT OF LABOR | Office of Employment and Training Administration | Special Assistant | DL200135 | 06/22/2020
|  | Senior Policy Advisor | DL200137 | 06/30/2020
| Office of the Occupational Safety and Health Administration | Special Assistant | DL200151 | 06/30/2020
| Office of Public Affairs | Senior Advisor for Policy and Media | DL200103 | 06/19/2020
| Office of Public Liaison | Special Assistant | DL200119 | 06/04/2020
| Office of the Assistant Secretary for Policy | Special Assistant | DL200152 | 06/30/2020
| Office of the Secretary | Advance Lead | DL200141 | 06/03/2020
|  | Director of Scheduling and Operations | DL200128 | 06/04/2020
NATIONAL ENDOWMENT FOR THE HUMANITIES | National Endowment for the Humanities | Supervisory Public Affairs Specialist | NH200003 | 06/09/2020
NATIONAL TRANSPORTATION SAFETY BOARD | Office of the Board Members | Confidential Assistant | TB200007 | 06/11/2020
OFFICE OF NATIONAL DRUG CONTROL POLICY | Office of the Director | Confidential Assistant | QQ200007 | 06/11/2020
OFFICE OF PERSONNEL MANAGEMENT | Office of Congressional, Legislative, and Intergovernmental Affairs | Senior Congressional Relations Officer Legislative Analyst (2) | PM200052 PM200053 PM200063 | 06/15/2020 06/15/2020 06/29/2020
| Employee Services | Senior Advisor (3) | PM200061 PM200062 PM200064 | 06/11/2020 06/29/2020 06/29/2020
SMALL BUSINESS ADMINISTRATION | Office of the General Counsel Office of Capital Access | Senior Counsel Senior Advisor | SB200029 SB200026 | 06/08/2020 06/11/2020
DEPARTMENT OF STATE | Bureau of East Asian and Pacific Affairs | Deputy Assistant Secretary | DS200067 | 06/18/2020
| Bureau of Educational and Cultural Affairs | Special Assistant | DS200059 | 06/18/2020
| Bureau of Overseas Buildings Operations | Senior Advisor | DS200080 | 06/23/2020
| Office of the Chief of Protocol | Protocol Officer (Visits) | DS200066 | 06/10/2020
| Office of the Counselor | Staff Assistant | DS200070 | 06/10/2020
| Office of the Secretary | Special Assistant | DS200077 | 06/18/2020
DEPARTMENT OF TRANSPORTATION | Office of Public Affairs | Senior Deputy Press Secretary | DT200114 | 06/05/2020
| Office of the Executive Secretariat | Special Assistant | DT200117 | 06/10/2020

The following Schedule C appointing authorities were revoked during June 2020.

Agency name | Organization name | Position title | Request No. | Date vacated
DEPARTMENT OF HOUSING AND URBAN DEVELOPMENT | Office of the General Counsel | Senior Counsel | DU190035 | 06/06/2020
DEPARTMENT OF STATE | Bureau of Public Affairs | Senior Advisor | DS190017 | 06/06/2020
NATIONAL ENDOWMENT FOR THE HUMANITIES | National Endowment for the Humanities | Supervisory Public Affairs Specialist | NH180005 | 06/06/2020
OFFICE OF PERSONNEL MANAGEMENT | Office of the Director | Clerk | PM200010 | 06/20/2020

Authority: 5 U.S.C. 3301 and 3302; E.O. 10577, 3 CFR, 1954-1958 Comp., p. 218.

Office of Personnel Management.
Alexys Stanley,
Regulatory Affairs Analyst.

[FR Doc. 2021-02258 Filed 2-3-21; 8:45 am]

BILLING CODE 6325-39-P